DEPARTMENT OF HEALTH AND HUMAN SERVICES

Centers for Disease Control and Prevention

[30Day-20-20BY]

Agency Forms Undergoing Paperwork Reduction Act Review

In accordance with the Paperwork Reduction Act of 1995, the Centers for Disease Control and Prevention (CDC) has submitted the information collection request titled Pilot Project: Work Organization Risks to Short-haul Truck Drivers' Health & Safety (Survey) to the Office of Management and Budget (OMB) for review and approval. CDC previously published a “Proposed Data Collection Submitted for Public Comment and Recommendations” notice on November 20, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Pilot Project: Work Organization Risks to Short-haul Truck Drivers' Health & Safety—New—National Institute for Occupational Safety and Health (NIOSH),Centers for Disease Control and Prevention (CDC).

Background and Brief Description

Commercial truck drivers face widely acknowledged safety risks on the job and are at an increased risk for heart disease, diabetes, hypertension, and obesity. Long and irregular work hours, lack of breaks, inadequate sleep, and little access to exercise facilities and healthy eating options contribute to drivers' health and safety problems. Additionally, health complications of obesity (e.g., sleep apnea, type II diabetes) place truckers at even greater risk of roadway crashes. Much of what we know about work and health is based on knowledge gleaned from research on long-haul commercial drivers. Local short haul drivers are those who generally return home each night after work, and who travel no more than 150 miles from the employer's terminal each day (whereas long-haul drivers are away from home for long periods of time and drive much greater distances daily). This research addresses a gap in knowledge and responds to stakeholders' requests for research that examines work organization in local short-haul commercial driving. The purpose of this data collection is to learn more about the local short-haul trucking industry and how the complex interplay between job design and individual health behaviors affects the safety, health, and well-being of commercial drivers. NIOSH is requesting a 12-month OMB approval.

A survey will be used to collect cross-sectional data from 300 local short-haul commercial drivers. Drivers will answer questions about work design, organizational policies, occupational stressors, physical health, safety, and mental well-being. The data collected will be used to characterize work organization in local short-haul commercial driving and analyzed to examine the association between work design and driver physical health, mental health, well-being, and safety.

Stakeholders in trucking associations have agreed to promote participation in the study amongst their member organizations. A sample of 300 drivers will be recruited from across several commercial driving companies over a six-month time period. This is a cross-sectional survey. Drivers will complete the survey only one time. It is estimated that the survey will take about 30 minutes to complete. All responses are anonymous, and no personally identifiable information will be collected.

There are no costs to respondents other than their time. The total estimated burden is 174 hours.

Estimated Annualized Burden Hours
Type of respondent | Form name | Number of respondents | Number of responses per respondent | Average burden per response (in minutes per hour)
Participant Eligibility Screening of drivers | Participant Eligibility Screening Form | 300 | 1 | 5/60
L/SH truck drivers | Non Respondent Questionnaire | 3 | 1 | 5/60
L/SH truck drivers | Hardcopy Survey Sections 1-7 | 297 | 1 | 25/60

Jeffrey M. Zirger,
Lead, Information Collection Review Office, Office of Scientific Integrity, Office of Science, Centers for Disease Control and Prevention.

[FR Doc. 2020-10997 Filed 5-20-20; 8:45 am]

BILLING CODE 4163-18-P